DEPARTMENT OF ENERGY

Agency Information Collection Request

AGENCY: Department of Energy.

ACTION: Notice of request for comments.

SUMMARY: The Department of Energy (DOE) invites public comment on a proposed collection of information that DOE plans to submit to the Office of Management and Budget (OMB) pursuant to the Paperwork Reduction Act of 1995. The information collection described in this notice is currently part of DOE's Environment, Safety, and Health collection under OMB Control Number 1910-0300. The DOE office (Office of Enterprise Assessments) that administers the information collection described herein differs from the DOE office (Office of Environment, Health, Safety and Security) that administers the other collections under OMB Control Number 1910-0300. DOE is seeking a separate OMB control number for this collection.

DATES: Comments regarding this proposed information collection must be received on or before November 7, 2022. If you anticipate any difficulty in submitting comments within that period, contact the person listed in the FOR FURTHER INFORMATION CONTACT section as soon as possible.

ADDRESSES: Written comments may be sent to Felecia Briggs, EA-40, Germantown Building, U.S. Department of Energy, 1000 Independence Ave. SW, Washington, DC 20585-1290, or by email at Felecia.Briggs@hq.doe.gov.

FOR FURTHER INFORMATION CONTACT: Requests for additional information or copies of the information collection instrument and instructions should be directed to Felecia Briggs, EA-40/C-412 Germantown Building, U.S. Department of Energy, 1000 Independence Ave. SW, Washington, DC 20585-1290 or by email at Felecia.Briggs@hq.doe.gov or by telephone at (301) 903-8803.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW;

(2) Information Collection Request Titled: DOE Noncompliance Tracking System (NTS);

(3) Type of Review: New;

(4) Purpose: The DOE Noncompliance Tracking System (NTS) is used by DOE contractors to report potential nuclear safety and worker safety and health regulatory noncompliances to DOE as described in 10 CFR part 820, Procedural Rules for DOE Nuclear Activities, and 10 CFR part 851, Worker Safety and Health Program. DOE uses this information to monitor contractor compliance with safety requirements in lieu of an onsite inspection program.

(5) Annual Estimated Number of Respondents: 30;

(6) Annual Estimated Number of Total Responses: 210;

(7) Annual Estimated Number of Burden Hours: 2,520;

(8) Annual Estimated Reporting and Recordkeeping Cost Burden: $200,000.

Statutory Authority

DOE Noncompliance Tracking System (NTS): 10 CFR part 820; 10 CFR part 851.

Signing Authority

This document of the Department of Energy was signed on August 31, 2022, by John E. Dupuy, Director, Office of Enterprise Assessments, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 31, 2022.
Treena V. Garrett,
Federal Register Liaison Officer, U.S. Department of Energy.

[FR Doc. 2022-19196 Filed 9-2-22; 8:45 am]

BILLING CODE 6450-01-P